DEPARTMENT OF THE INTERIOR

National Park Service

[NPS-WASO-NAGPRA-17921; PPWOCRADN0-PCU00RP14.R50000]

Notice of Inventory Completion: Arkansas Archeological Survey, Fayetteville, AR; Correction

AGENCY: National Park Service, Interior.

ACTION: Notice; correction.

SUMMARY: The Arkansas Archeological Survey has corrected an inventory of human remains and associated funerary objects, published in a Notice of Inventory Completion in the Federal Register on December 22, 2014. This notice corrects the number of associated funerary objects listed in that notice. Lineal descendants or representatives of any Indian tribe or Native Hawaiian organization not identified in this notice that wish to request transfer of control of these associated funerary objects should submit a written request to the Arkansas Archeological Survey. If no additional requestors come forward, transfer of control of associated funerary objects to the lineal descendants, Indian tribes, or Native Hawaiian organizations stated in this notice may proceed.

DATES: Lineal descendants or representatives of any Indian tribe or Native Hawaiian organization not identified in this notice that wish to request transfer of control of these associated funerary objects should submit a written request with information in support of the request to the Arkansas Archeological Survey at the address in this notice by May 28, 2015.

ADDRESSES: George Sabo, Director, Arkansas Archeological Survey, 2475 North Hatch Avenue, Fayetteville, AR 72704, telephone (479) 575-3556.

SUPPLEMENTARY INFORMATION: Notice is here given in accordance with the Native American Graves Protection and Repatriation Act (NAGPRA), 25 U.S.C. 3003, of the correction of an inventory of human remains and associated funerary objects under the control of the Arkansas Archeological Survey. The human remains and associated funerary objects were removed from multiple counties in Arkansas.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (79 FR 76351-76361, December 22, 2014). In preparing the associated funerary objects for transfer, discrepancies were discovered in the count of associated funerary objects. Transfer of control of the items in this correction notice has not occurred.

Correction

In the Federal Register (79 FR 76351-76361, December 22, 2014), paragraph 8, sentence 3 is corrected by substituting the following sentence:

The nine associated funerary objects include nine fragments of two different ceramic vessels.

In the Federal Register (79 FR 76351-76361, December 22, 2014), paragraph 79, sentence three and four are corrected by substituting the following sentences:

No associated funerary objects are present. Diagnostic artifacts found at site 3MS4 indicate that these human remains were probably buried during the Late Woodland and Early Mississippian periods (A.D. 750-950)

In the Federal Register (79 FR 76351-76361, December 22, 2014), paragraph 111, sentence 3 is corrected by substituting the following sentence:

The two associated funerary objects include one Neeley's Ferry Plain bottle and one Neeley's Ferry Plain effigy bowl.

In the Federal Register (79 FR 76351-76361, December 22, 2014), paragraph 113, sentence 3 is corrected by substituting the following sentence:

The eight associated funerary objects include two ceramic bottles, five vessels, and one jar.

In the Federal Register (79 FR 76351-76361, December 22, 2014), paragraph 128, sentence 3 is corrected by substituting the following sentence:

The 158 associated funerary objects include one Barton incised “Helmet-like” bowl, one Bell Plain jar, five Mississippi Plain “Helmet” bowls, two Mississippi Plain “Helmet” jars, 23 shell beads, two Old Town red bottles, five pieces of red ochre, three Nodena arrow point preform fragments, one grooved sandstone maul, one Wallace Incised var unspec bowl, one quartz crystal, one Avenue Polychrome var unspec bottle, one engraved siltstone pendant, one sandstone rubbing/polishing stone, 14 tubular metal beads, three untyped arrow point, four Nodena arrow points, two Old Town red “Helmet” bowl, two Mississippi Plain miniature deep bowls, eight glass beads, 71 metal and brass beads, two metal tinkle cones, one perforator/graver, one Old Town red effigy bowl, one thumbnail scraper, and one plain jar.

In the Federal Register (79 FR 76351-76361, December 22, 2014), paragraph 132, sentence 3 is corrected by substituting the following sentence:

The one associated funerary object is a gorget.

In the Federal Register (79 FR 76351-76361, December 22, 2014), paragraph 161 is corrected by substituting the following paragraph:

Pursuant to 25 U.S.C. 3001(3)(A), the 214 objects described in this notice are reasonably believed to have been placed with or near individual human remains at the time of death or later as part of the death rite or ceremony.

Additional Requestors and Disposition

Lineal descendants or representatives of any Indian tribe or Native Hawaiian organization not identified in this notice that wish to request transfer of control of these associated funerary objects should submit a written request with information in support of the request to George Sabo, Director, Arkansas Archeological Survey, 2475 North Hatch Avenue, Fayetteville, AR 72704, telephone (479) 575-3556, by May 28, 2015. After that date, if no additional requestors have come forward, transfer of control of the associated funerary objects to The Quapaw Tribe of Indians may proceed.

The Arkansas Archeological Survey is responsible for notifying The Quapaw Tribe of Indians that this notice has been published.

Dated: March 4, 2015.
Melanie O'Brien,
Acting Manager, National NAGPRA Program.

[FR Doc. 2015-09929 Filed 4-27-15; 8:45 am]

BILLING CODE 4312-50-P